SOCIAL SECURITY ADMINISTRATION

[Docket No. SSA-2025-0038]

Rescission of Social Security Ruling 64-13, 74-8c, 78-24, and 79-38

AGENCY: Social Security Administration.

ACTION: Notice of Rescission of Social Security Ruling (SSR).

SUMMARY: We are providing notice of the rescission of SSR 64-13; SSR 74-8c; SSR 78-24; and SSR 79-38.

DATES: We will apply this rescission on January 21, 2026.

FOR FURTHER INFORMATION CONTACT: Jeffrey Hemmeter, Disability Policy, Social Security Administration, 6401 Security Boulevard, Baltimore, MD 21235-6401, (410) 597-1815.

For information on eligibility or filing for benefits, call our national toll-free number, 1-800-772-1213 or visit our internet site, Social Security Online, at http://www.socialsecurity.gov.

SUPPLEMENTARY INFORMATION: Although 5 U.S.C. 552(a)(1) and (a)(2) do not require us to publish SSRs, we publish SSRs in accordance with 20 CFR 402.160(b)(1).

SSRs represent precedential final opinions, orders, and statements of policy and interpretations that we have adopted relating to the Federal Old Age, Survivors, and Disability Insurance program, and Supplemental Security Income (SSI) program. We may base SSRs on determinations or decisions made in our administrative review process, Federal court decisions, decisions of our Commissioner, opinions from our Office of the General Counsel, or other interpretations of law and regulations. Although SSRs do not have the same force and effect as law, they are binding on all SSA components in accordance with 20 CFR 402.160(b)(1).

By this notice we are rescinding the following SSRs:

SSR 64-13: Section 222(b).—Disability—Deduction For Refusal to Accept Vocational Rehabilitation Services.

SSR 74-8c: Sections 216(i) and 223 (42 U.S.C. 416(i) and 423)—Disability—Expiration of Insured Status—Onset of Disability Subsequent Thereto.

SSR 78-24: Disability—Refusal to Accept Vocational Rehabilitation Services.

SSR 79-38: Title II and Title XVI—Increase in the Amount of Earnings Used in Determining When Work Activity is Excluded as “Services” for Trial Work Period Purposes.

These SSRs were published in the 1960s and 1970s as policy interpretations binding on all components of the agency. We are rescinding these SSRs which address vocational rehabilitation (VR) services, insured status, and trial work periods (TWP), which have become obsolete either because Congress has amended the Social Security Act (Act) or because we have incorporated the relevant policy into our regulations.

SSR 64-13 and SSR 78-24 were based on Section 222(b) of the Act, which required individuals entitled to disability insurance benefits or child's, widow's, or widower's insurance benefits based on disability to cooperate with VR services unless they could demonstrate good cause not to do so.¹ However, Section 222(b) of the Act has been repealed ² and thus these SSRs are obsolete.

¹ 42 U.S.C 422(b) authorized deductions from payments up to the amount of an individual's benefit on account of refusal without good cause to accept rehabilitation services, and authorized deductions from payments to husbands, wives, or children of individuals who refused to accept such services with an exception for children between 18 and 22 who were full-time students.

² Ticket to Work and Work Incentives Improvement Act of 1999, Public Law 106-170, 101(b)(1)(C); 113 Stat. 1860, 1873 (1999).

SSR 74-8c is obsolete because its policy was incorporated into the regulations at 20 CFR 404.131(a).³

³ Federal Old Age, Survivors, and Disability Insurance, 45 FR 25383 (Apr. 15, 1980).

SSR 79-38 is obsolete because its policy was incorporated into the regulations at 20 CFR 404.1592 for title II disability cases,⁴ and because the TWP period no longer applies in SSI disability cases.⁵

⁴ Federal Old Age, Survivors, and Disability Insurance Benefits; Supplemental Security Income Benefits for the Aged, Blind, and Disabled, 45 FR 55566 (Aug. 20, 1980).

⁵ Employment Opportunities for Disabled Americans Act, Public Law 99-643, 4, 100 Stat 3574, 3575-77 (1986); see also Determining Disability and Blindness; Substantial Gainful Activity Guides, 65 FR 42772, 42775 (July 11, 2000).

As such, these SSRs are outdated or obsolete.

We are also rescinding these SSRs as part of the agency's compliance with Executive Order 14192, Unleashing Prosperity through Deregulation, which directs agencies to rescind sub-regulatory guidance documents as appropriate.

Mark A. Steffensen,
General Counsel, Social Security Administration.

[FR Doc. 2026-01006 Filed 1-20-26; 8:45 am]

BILLING CODE 4191-02-P